DEPARTMENT OF THE TREASURY

Office of the Comptroller of the Currency

Agency Information Collection Activities: Proposed Information Collection; Submission for OMB Review; Information Collection for Qualitative Research on Consumer Trust in Banking and Bank Supervision

AGENCY: Office of the Comptroller of the Currency (OCC), Treasury.

ACTION: Notice and request for comment.

SUMMARY: The OCC, as part of its continuing effort to reduce paperwork and respondent burden, invites the general public and other Federal agencies to take this opportunity to comment on a new information collection as required by the Paperwork Reduction Act of 1995 (PRA). An agency may not conduct or sponsor, and the respondent is not required to respond to, an information collection unless it displays a currently valid Office of Management and Budget (OMB) control number. The OCC is soliciting comment concerning a new information collection titled “Qualitative Research on Consumer Trust in Banking and Bank Supervision.”

DATES: Comments must be received by November 1, 2024.

ADDRESSES: Commenters are encouraged to submit comments by email, if possible. You may submit comments by any of the following methods:

• Email: prainfo@occ.treas.gov.

• Mail: Chief Counsel's Office, Attention: Comment Processing, Office of the Comptroller of the Currency, Attention: 1557-NEW, 400 7th Street SW, Suite 3E-218, Washington, DC 20219.

• Hand Delivery/Courier: 400 7th Street SW, Suite 3E-218, Washington, DC 20219.

• Fax: (571) 293-4835.

Instructions: You must include “OCC” as the agency name and “1557-NEW” in your comment. In general, the OCC will publish comments on www.reginfo.gov without change, including any business or personal information provided, such as name and address information, email addresses, or phone numbers. Comments received, including attachments and other supporting materials, are part of the public record and subject to public disclosure. Do not include any information in your comment or supporting materials that you consider confidential or inappropriate for public disclosure.

Written comments and recommendations for the proposed information collection should also be sent within 30 days of publication of this notice to www.reginfo.gov/public/do/PRAMain. You can find this information collection by selecting “Currently under 30-day Review—Open for Public Comments” or by using the search function.

You may review comments and other related materials that pertain to this information collection following the close of the 30-day comment period for this notice by the method set forth in the next bullet.

• Viewing Comments Electronically: Go to www.reginfo.gov. Hover over the “Information Collection Review” tab and click on “Information Collection Review” from the drop-down menu. From the “Currently under Review” drop-down menu, select “Department of Treasury” and then click “submit.” This information collection can be located by searching OMB control number “1557-NEW” or “Information Collection for Qualitative Research on Consumer Trust in Banking and Bank Supervision.” Upon finding the appropriate information collection, click on the related “ICR Reference Number.” On the next screen, select “View Supporting Statement and Other Documents” and then click on the link to any comment listed at the bottom of the screen.

• For assistance in navigating www.reginfo.gov, please contact the Regulatory Information Service Center at (202) 482-7340.

FOR FURTHER INFORMATION CONTACT: Shaquita Merritt, Clearance Officer, (202) 649-5490, Chief Counsel's Office, Office of the Comptroller of the Currency, 400 7th Street SW, Washington, DC 20219. If you are deaf, hard of hearing, or have a speech disability, please dial 7-1-1 to access telecommunications relay services.

SUPPLEMENTARY INFORMATION: Under the PRA (44 U.S.C. 3501 et seq.), Federal agencies must obtain approval from the OMB for each collection of information that they conduct or sponsor. “Collection of information” is defined in 44 U.S.C. 3502(3) and 5 CFR 1320.3(c) to include agency requests or requirements that members of the public submit reports, keep records, or provide information to a third party. The OCC asks the OMB to approve the collection in this notice.

Title: Information Collection for Qualitative Research on Consumer Trust in Banking and Bank Supervision.

OMB Control No.: 1557-NEW.

Type of Review: Regular.

Affected Public: Individual consumers.

Estimated Number of Respondents: 600 screener survey respondents; 150 focus group participants (100 minimum completes).

Estimated Average Time per Response: Screener survey: 1 response per respondent; Focus groups: 1 60-minute session per participant.

Estimated Total Annual Burden: 180 hours (30 hours for screener survey and 150 hours for focus groups).

Description: The OCC seeks to obtain OMB approval for a new information collection titled “Qualitative Research on Consumer Trust in Banking and Bank Supervision.” The collection of information through consumer focus groups is necessary to gain in-depth, qualitative insights into the factors influencing public trust and confidence in the banking system. Events such as the 2008 financial crisis and the 2023 failure of Silicon Valley Bank have highlighted the importance of understanding consumer perspectives on banking and the role of Federal regulatory oversight.

The focus groups will explore how consumers differentiate between types of financial institutions, their usage of various banking products and services, their perceptions of what drives trust or distrust in banking, and their awareness of regulators' efforts to safeguard the system. These insights will directly inform the development of a large-scale survey instrument aimed at tracking and measuring consumer trust over time.

Qualitative research plays a critical role in surfacing the language consumers use to talk about complex topics like trust as well as identifying key issues and themes that should be prioritized in the quantitative survey phase. Speaking directly with consumers allows their voices and experiences to shape the research from the ground up. The focus groups are thus a necessary foundational step to ensure the resulting survey asks the right questions in ways that resonate with the public.

This information collection effort is necessary to enable the OCC to gather complementary quantitative data on levels of consumer trust in banking and bank supervision that will inform how the OCC approaches its mission to safeguard the financial stability of the banking system and promote consumer protection and economic inclusion.

Comments: On January 08, 2024, the OCC published a 60-day notice for this information collection, 89 FR 984. No comments were received.

Comments continue to be invited on:

(a) Whether the collection of information is necessary for the proper performance of the functions of the OCC, including whether the information has practical utility;

(b) The accuracy of the OCC's estimate of the burden of the collection of information;

(c) Ways to enhance the quality, utility, and clarity of the information to be collected;

(d) Ways to minimize the burden of the collection on respondents, including through the use of automated collection techniques or other forms of information technology; and

(e) Estimates of capital or start-up costs and costs of operation, maintenance, and purchase of services to provide information.

Patrick T. Tierney,
Assistant Director, Office of the Comptroller of the Currency.

[FR Doc. 2024-22585 Filed 10-1-24; 8:45 am]

BILLING CODE 4810-33-P